DEPARTMENT OF COMMERCE

National Oceanic and Atmospheric Administration

[RTID 0648-XB913]

Western Pacific Fishery Management Council (Council); Public Meeting; Correction

AGENCY: National Marine Fisheries Service (NMFS), National Oceanic and Atmospheric Administration (NOAA), Commerce.

ACTION: Notice; correction.

SUMMARY: NMFS published a document in the Federal Register of March 29, 2022, concerning the Western Pacific Stock Assessment Review (WPSAR) Steering Committee meeting. The dates and times for this meeting have since changed.

FOR FURTHER INFORMATION CONTACT: Marlowe Sabater; phone: (808) 522-8143, or marlowe.sabater@noaa.gov.

SUPPLEMENTARY INFORMATION:

Correction

In the Federal Register of March 29, 2022, in FR Doc 2022-06555, on page 17993, in the third column, correct the DATES caption to read:

DATES: The Steering Committee will meet from 10 a.m. to 12 noon on April 26, 2022. For agendas, see SUPPLEMENTARY INFORMATION.

Authority:16 U.S.C. 1801 et seq.

Dated: April 12, 2022.
Tracey L. Thompson,
Acting Deputy Director, Office of Sustainable Fisheries, National Marine Fisheries Service.

[FR Doc. 2022-08192 Filed 4-15-22; 8:45 am]

BILLING CODE 3510-22-P